FEDERAL COMMUNICATIONS COMMISSION

[IB Docket No. 20-205; DA 21-1206; FRS 59888]

Notice of 90-Day Period To Submit Affirmation of Operational Status of Identified Earth Station Antennas To Avoid Losing Incumbent Status or File To Remove Identified Antennas From IBFS if No Longer Operational

AGENCY: Federal Communications Commission.

ACTION: Notice.

SUMMARY: In this document, the International Bureau (Bureau) provides the following notice to operators of certain incumbent FSS C-band earth station antennas recently reported to the Bureau by RSM US LLP (RSM), the C-band Relocation Coordinator, on behalf of incumbent C-band satellite operators: Failure to submit a filing to the Bureau by no later than 90 days after the release of the Bureau's Public Notice (i.e., by December 27, 2021) affirming the continued operation of the earth station antennas reported to the Bureau as inactive and the intent to participate in the C-band transition will result in a Bureau announcement that those authorizations identified as inactive in the Appendix attached to the Bureau's Public Notice have automatically terminated by operation of rule, and that those authorizations will be terminated in IBFS and removed from the incumbent earth station list. According to RSM, each antenna included in the Appendix to the Bureau's Public Notice was reported by their earth station operator to RSM or a satellite operator as no longer receiving service from a C-band satellite even though the FCC's International Bureau Filing System (IBFS) continues to include the antenna as active.

DATES: Identified earth station operators must provide notice of operational status by December 27, 2021.

FOR FURTHER INFORMATION CONTACT: Kerry Murray, International Bureau, Satellite Division, at (202) 418-0734, Kerry.Murray@fcc.gov or IBFSINFO@fcc.gov.

SUPPLEMENTARY INFORMATION: This is a summary of the Commission's document, DA 21-1206, released September 27, 2021. The full text of this document, along with the Appendix identifying the specific earth station antennas subject to automatic termination, is available for public inspection and can be downloaded at https://www.fcc.gov/document/ib-identifies-inactive-c-band-incumbent-earth-station-antennas or by using the search function for Docket No. 20-205 on the Commission's ECFS page at www.fcc.gov/ecfs.

Background. Under the Commission's 3.7 GHz Band Report and Order, RSM is responsible for coordinating with the five incumbent C-band satellite operators—Eutelsat, Intelsat, SES, StarOne, and Telesat—to ensure that all incumbent earth stations are accounted for in the transition.¹ The overwhelming majority of incumbent earth stations have been claimed by the satellite operator(s) from which they receive service, included in their transition plans to the Commission, and will be transitioned to the upper 200 megahertz of the band.² In other cases, RSM, as the C-band Relocation Coordinator, has conducted outreach and research to determine whether the earth station is still active and, if so, from which satellite(s) the earth station receives its service.³ In the course of their outreach, the satellite operators and RSM have identified certain antennas as inactive. The inactive status of some of these antennas has been confirmed when the relevant earth station operators filed with the Bureau to close out those antennas in IBFS. For the rest of these inactive antennas, their earth station operators reported to the satellite operators (according to RSM) that these antennas were no longer being used (even though in these cases their earth station operators failed to make the requisite discontinuance filings with the FCC in order to close out those antennas in IBFS). RSM has advised the Commission that it and the incumbent satellite operators regularly share the results of their respective outreach efforts to better coordinate the transition of incumbent earth stations.

¹ See Expanding Flexible Use of the 3.7 to 4.2 GHz Band, Report and Order and Order of Proposed Modification, 35 FCC Rcd 2343, 2391, paras. 116-23 (2020) (3.7 GHz Band Report and Order).

² 47 CFR 27.1412(d) (transition plan requirements). The satellite operators also file quarterly status reports in GN Docket No. 20-173. 47 CFR 27.1412(f).

³ 3.7 GHz Band Report and Order, 35 FCC Rcd 2343, 2460, para. 313.

On January 19, 2021, the Bureau released a Public Notice that provided notice to those incumbent earth station operators that RSM reported in a January 14, 2021 filing as inactive, that such earth station operators had 90 days, until April 19, 2021, to respond in the Electronic Comment Filing System (ECFS) or their registrations would be automatically terminated and they would be removed from the incumbent earth station list.⁴ The Public Notice released on January 19, 2021 also provided such 90-day notice to a small group of “unresponsive” (or, in terms used in the January 14 RSM filing from which these operators were drawn, “unable to reach”) incumbent earth station operators about their antennas. Such “unresponsive” stations were all incumbent earth stations that (a) had not been claimed by any of the five incumbent C-band satellite operators and, therefore, were not included in any of the satellite operator Transition Plans, and (b) had failed to respond to any outreach efforts from the very beginning of those efforts. The registrations of earth stations that failed to respond have been terminated in IBFS and those registrations have been removed from the incumbent earth station list.⁵

⁴ See International Bureau Identifies Inactive C-Band Incumbent Earth Station Antennas and Unresponsive C-Band Incumbent Earth Station Operators, Public Notice, DA 21-81 (rel. Jan. 19, 2021).

⁵ See International Bureau Releases Updated List of Incumbent Earth Stations in the 3.7-4.2 GHz Band in the Contiguous United States, Public Notice, DA 21-731, IB Docket No. 20-205 (rel. June 22, 2021) (June 22, 2021, Incumbent Earth Station List) for the current incumbent earth station list and an explanation of the criteria applied to be included on the list.

On July 14, 2021, RSM submitted a letter identifying an additional group of individual earth station antennas as no longer operational at the location provided in the latest incumbent earth station list, even though these antennas continue to be listed in IBFS. On July 23, 2021, the Bureau released a Public Notice that provided notice to those incumbent earth station operators that RSM reported as inactive that such earth station operators had 90 days, until October 21, 2021, to respond in the Electronic Comment Filing System (ECFS) or their registrations would be automatically terminated and they would be removed from the incumbent earth station list.⁶ The Public Notice released on July 23, 2021 also provided such 90-day notice to a small group of “unresponsive” (or, in terms used in the January 14 RSM filing from which these operators were drawn, “unable to reach”) incumbent earth station operators about their antennas. Such “unresponsive” stations were all incumbent earth stations that (a) had not been claimed by any of the five incumbent C-band satellite operators and, therefore, were not included in any of the satellite operator Transition Plans, and (b) had failed to respond to any outreach efforts from the very beginning of those efforts. The registrations of earth stations that failed to respond have been terminated in IBFS and those registrations have been removed from the incumbent earth station list.

⁶ See International Bureau Identifies Inactive C-Band Incumbent Earth Station Antennas and Unresponsive C-Band Incumbent Earth Station Operators, Public Notice, DA 21-81 (rel. Jan. 19, 2021).

On September 27, 2021, RSM submitted a letter identifying an additional group of individual earth station antennas as no longer operational at the location provided in the latest incumbent earth station list, even though these antennas continue to be listed in IBFS. The September 27 RSM filing, with its attachment, can be found in ECFS. RSM explains that it compiled this group of antennas—which were not included in the Public Notice released on July 21, 2021—from affirmative representations made to RSM or the satellite operators by the antennas' earth station operators. We have attached to DA 21-1206 an Appendix listing this group of antennas.

We hereby presume, on a rebuttable basis, that earth station antennas included in the Appendix attached to DA 21-1206 are no longer operational. Section 25.161(c) of the Commission's rules provides that an earth station authorization is automatically terminated if the station is not operational for more than 90 days.⁷ We also note that the Commission's rules require earth station operators to take the steps necessary to remove non-operational antennas from the active records in the IBFS.⁸ Moreover, under the Commission's rules, antennas must continue to be operational to qualify for incumbent status.⁹

⁷ 47 CFR 25.161(c). The Bureau has delegated authority to enforce the Part 25 rules. 47 CFR 0.261(a)(15).

⁸ 47 CFR 25.115(b)(8).

⁹ 47 CFR 25.138(c)(1).

Incumbent earth station operators who need to affirm the continued operation of the identified earth station antennas. We direct earth station operators with incumbent earth station antennas that appear on the inactive list appended to DA 21-1206 to make either of two filings no later than 90 days after release of this Notice (i.e., by December 27, 2021): (1) file to remove those antennas from IBFS as no longer operational as required by Commission rule and optionally make a filing in ECFS IB Docket No. 20-205 confirming the extent to which they are surrendering or removing antennas in IBFS, or (2) file in ECFS IB Docket No. 20-205 affirming that those antennas are still operational. An earth station operator may contact Bureau staff at IBFSINFO@fcc.gov if it has questions about the above or if it needs instructions on how to surrender entire Callsigns in IBFS or how to remove an inactive earth station antenna from a Callsign that includes other operational earth station antennas.

Earth station operators with earth station antenna(s) on the inactive list in the Appendix to DA 21-1206 that do not respond by December 27, 2021, affirming the continued operation of the identified earth station antennas will be deemed to have had the authorizations for those antennas automatically terminated by rule. Those authorizations will be terminated in IBFS, i.e., the IBFS records for those antennas will be shown with a terminated status. Such terminated earth stations will also be removed from the incumbent earth station list and will not be entitled to protection from interference from the network deployments of new wireless licenses or be eligible for reimbursement of any transition costs, including the cost of any filters, that those earth stations may decide to incur. Of course, notwithstanding an affirmation of continued operation, the Bureau retains the authority to eliminate an earth station antenna's incumbent status if the Bureau receives additional evidence that the antenna has failed to satisfy applicable requirements for maintaining operation.

Incumbent earth station operators who need to provide additional information to avoid harmful interference. As a reminder, while not subject to 90-days' notice, certain earth station operators that have not provided the necessary information to the Relocation Coordinator or satellite operators may not be successfully transitioned before terrestrial wireless licensees initiate service in the band. In particular, RSM identified in its July 14, 2021 filing a limited number of incumbent earth station operators with which it was able to establish contact but has not been able to get enough information from the earth station operator for it to be included in a satellite operator transition plan or for RSM to conclude that the earth station is in fact participating in the transition process. With two exceptions,¹⁰ further outreach by RSM with these earth station operators has not been successful.

¹⁰ RSM reports that, since its July 14 filing, the Archdiocese of San Antonio and Williamsburg's Radio Station, Inc. have been included in a space station operator transition plan. September 24 RSM filing, at note 3.

Unless those earth station operators provide the necessary information, they will risk losing their rights to receive relocation assistance prior to the initiation of service in the band by the incoming terrestrial wireless licensees, as well as any rights to operate in the lower C-band at their current locations free of harmful interference that may occur as these licensees deploy their networks.

Federal Communications Commission.
Denise Coca,
Chief, Telecommunications Analysis Division, International Bureau.

[FR Doc. 2021-26373 Filed 12-3-21; 8:45 am]

BILLING CODE 6712-01-P